DEPARTMENT OF ENERGY

National Nuclear Security Administration; Notice of Comment Period Extension for the Notice of Intent To Prepare a Site-Wide Environmental Impact Statement for Lawrence Livermore National Laboratory

AGENCY: Department of Energy, National Nuclear Security Administration.

ACTION: Notice of comment period extension.

SUMMARY: On June 17, 2002, the National Nuclear Security Administration (NNSA) published, in the Federal Register, the Notice of Intent (NOI) to prepare a Site-Wide Environmental Impact Statement for Lawrence Livermore National Laboratory (67 FR 41224). The comment period for that NOI was scheduled to end on August 13, 2002. The NNSA has decided to extend the comment period until September 16, 2002. Written comments on the scope of the SWEIS or requests for information should be sent to Mr. Thomas Grim, Document Manager, 1301 Clay Street, Oakland, CA 94612-5208. Comments may also be sent by e-mail (tom.grim@oak.doe.gov) or facsimile (925-422-1776). Additionally, any agency, state, pueblo, tribe, or units of local government that desire to be designated a cooperating agency should contact: Mr. Thomas Grim at (925) 422-0704 by September 16, 2002.

Issued in Washington, DC, this 6th day of August, 2002.
James J. Rose,
Deputy NEPA Compliance Office, National Nuclear Security Administration.

[FR Doc. 02-20304 Filed 8-9-02; 8:45 am]

BILLING CODE 6450-01-P